DEPARTMENT OF STATE

[Public Notice 4175]

Public Meeting With Interested Parties for the Department of State and Other Agencies To Receive Views on Proposals To Modify and Expand the Role of the International Mobile Satellite Organization (IMSO)

AGENCY: Department of State, Bureau of Economic and Business Affairs, Office of the Coordinator for International Communications and Information Policy.

ACTION: Notice of meeting and request for comments.

DATE, TIME AND PLACE: Tuesday, November 19, 2002, 9:30 am-12 pm, Department of State, 2201 C Street NW., Washington, DC.

SUMMARY: The International Mobile Satellite Organization (IMSO) Assembly of Parties (member governments) has created an Intersessional Working Group (IWG) to undertake a detailed study of a possible extension or expansion of IMSO's mandate. The issue to be addressed at this meeting is the role of IMSO in respect of the Global Maritime Distress and Safety System (GMDSS), aeronautical safety services, and service to rural and remote areas of developing countries, including the principle and the legal methodology of a possible extension or expansion of IMSO's mandate. The Department of State wishes to receive the views of the public on the issues that will be addressed by the IWG, the first meeting of which is scheduled for January 20-24, 2003.

The two principal issues that have given rise to the creation of the IWG are: (1) Questions concerning the criteria for and potential consequences of the recognition by the International Maritime Organization (IMO) of additional service providers for the satellite component of the GMDSS and any possible role for IMSO with respect to such additional providers (currently, only Inmarsat Ltd. Of London is recognized as a satellite service provider of GMDSS); and (2) formal proposals of the Party of Denmark to amend the IMSO Convention to give the IMSO an expanded mandate with respect to GMDSS, aeronautical safety services, and mobile communications in rural and remote areas.

Currently, the IMSO oversees only Inmarsat, particularly with regard to Inmarsat's provision of GMDSS services. The IMO, which has responsibility for establishing maritime safety standards, has thus far only recognized Inmarsat as a provider of the satellite component of the GMDSS. However, questions have arisen out of the possibility that the IMO may recognize additional satellite telecommunication companies as GMDSS providers in the near future, and what the role, if any, the IMSO should have in such a case.

The proposal of the Party of Denmark would expand the purpose of the IMSO “to ensure that one or more of the public interests set forth * * * are met by each * * * entity or entities through which a mobile satellite communications system is operated.” The “public interests” are: “(1) Ensuring the provision of global maritime satellite communications services for the GMDSS; (2) ensuring the provision of global aeronautical mobile satellite safety communications services; and (3) seeking to serve all areas where there is a need for mobile satellite communications, giving due consideration to the rural and remote areas of developing countries.”

The Department of State will prepare comments and proposals on the above issues to be submitted to the IWG participants before December 20, 2002. The purpose of this meeting is to solicit input and suggestions from interested parties for use in formulating the U.S. response that will be discussed at the January 2003 IWG meeting. The Terms of Reference for the IWG, the amendment proposal of the Party of Denmark, and certain other documents can be found on the Internet Web page of the Office of the Coordinator for International Communications and Information Policy: http://www.state.gov/e/eb/cip/.

Please confirm attendance at the meeting using the contact information below. The meeting will be held in an informal roundtable fashion. However, up to 15 minutes will be allocated to anyone who wishes to make a formal presentation. Copies of written comments and proposals to be discussed at the meeting should be provided electronically seven days in advance and will be posted on the Web page. Additional written comments (provided electronically) will be accepted by the Department of State until December 4, 2002 and will be posted on the Web page.

MAILING ADDRESS: Send comments to Brian Hunt, Office of the Coordinator—International Communications and Information Policy, Mail Code EB/CIP, U.S. Department of State, 2201 C Street NW., Washington DC 20520-5820. Paper submissions must include a copy on diskette in Word or ASCII format. Electronic copies may be sent via e-mail to huntbj@state.gov.

TO CONFIRM ATTENDANCE OR FOR ADDITIONAL INFORMATION: For additional information, contact Brian Hunt—voice: 202-647-5832, fax: 202-647-5957, e-mail: huntbj@state.gov.

Dated: October 18, 2002.
Steven W. Lett,
Deputy U.S. Coordinator, International Communications and Information Policy, Department of State.

[FR Doc. 02-27153 Filed 10-23-02; 8:45 am]

BILLING CODE 4710-07-P